FEDERAL COMMUNICATIONS COMMISSION

47 CFR Part 73

[DA 05-2200; MB Docket No. 02-109; RM-10420, 10546]

Radio Broadcasting Services; Morgan, GA

AGENCY: Federal Communications Commission.

ACTION: Final rule.

SUMMARY: The Audio Division, at the request of Donald F. White and Jerry E. White d/b/a Morgan Radio Company, allots Channel 228A at Morgan, Georgia, as the community's first local aural transmission service (RM-10420). See 67 FR 39933, June 11, 2002. We also dismiss the counterproposal filed by Clyde Scott, Jr. d/b/a EME Communications, proposing the allotment of Channel 228C3 in lieu of Channel 228A at Morgan, Georgia (RM-10546). The allotment of Channel 228C3 at Morgan was not considered because EME Communications failed to express an interest in applying for the channel, if allotted. Channel 228A can be allotted to Morgan in compliance with the Commission's minimum distance separation requirements at city reference coordinates. The coordinates for Channel 228A are 31-32-15 North Latitude and 84-35-58 West Longitude.

DATES: Effective September 12, 2005. A filing window for Channel 228A at Morgan, Georgia, will not be opened at this time. Instead, the issue of opening this allotment for auction will be addressed by the commission a subsequent order.

FOR FURTHER INFORMATION CONTACT: Sharon P. McDonald, Media Bureau, (202) 418-2180.

SUPPLEMENTARY INFORMATION: This is a synopsis of the Commission's Report and Order, MB Docket No. 02-109, adopted July 27, 2005, and released July 29, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Georgia, is amended by adding Morgan, Channel 228A.

Federal Communications Commission.
John A. Karousos,
Assistant Chief, Audio Division, Media Bureau.

[FR Doc. 05-16075 Filed 8-16-05; 8:45 am]

BILLING CODE 6712-01-P